FEDERAL MINE SAFETY AND HEALTH REVIEW COMMISSION

Sunshine Act Meeting

November 17, 2005.

Time and Date: 10 a.m., Thursday, December 1, 2005.

Place: The Richard V. Backley Hearing Room, 9th Floor, 601 New Jersey Avenue, NW., Washington, DC.

Status: Open.

Matters To Be Considered: The Commission will consider and act upon the following in open session: Secretary of Labor v. Martin County Coal Corporation and Geo/Environmental Associates, Docket Nos. KENT 2002-42-R, KENT 2002-43-R, KENT 2002-44-R, KENT 2002-45-R, KENT 2002-251, KENT 2002-261, and KENT 2002-262. (Issues include whether the judge properly dismissed citations issued to Martin County Coal Corp. and Geo/Environmental Associates for various violations of 30 CFR 77.216(d), 77.216-3(d), and 77.216-4(a)(2); whether Martin County Coal Corp. violated 30 CFR 77.216(d) as found by the judge; and whether and Geo/Environmental Associates violated 30 CFR 77.216-4(a)(7) as found by the judge).

The Commission will hear oral argument in this matter on November 17, 2005.

Any person attending this meeting who requires special accessibility features and/or auxiliary aids, such as sign language interpreters, must inform the Commission in advance of those needs, subject to 29 CFR 2706.150(a)(3) and 2706.160(d).

Contact Person For More Information: Jean Ellen, (202) 434-9950/(202) 708-9300 for TDD Relay/1-800-877-8339 for toll free.

Jean H. Ellen,
Chief Docket Clerk.

[FR Doc. 05-23313 Filed 11-21-05; 4:03 pm]

BILLING CODE 6735-01-M